DEPARTMENT OF THE TREASURY

United States Mint

Pricing for 2012 Kennedy Half-Dollar Bags and Rolls, Bronze Medals, the First Spouse Bronze Medal Set and the Birth Set

AGENCY: United States Mint, Department of the Treasury.

ACTION: Notice.

SUMMARY: The United States Mint is announcing 2012 pricing for Kennedy Half-Dollar bags and rolls, bronze medals, the First Spouse Bronze Medal Set and the Birth Set.

Product | Retail price
Kennedy Half-Dollar Bags | 139.95
Kennedy Half-Dollar Two-Roll Set | 32.95
Large Bronze Medals | 39.95
Small Bronze Medals | 6.95
First Spouse Bronze Medal Set | 16.95
Birth Set | 19.95

FOR FURTHER INFORMATION CONTACT: B. B. Craig, Associate Director for Sales and Marketing; United States Mint; 801 9th Street NW., Washington, DC 20220; or call 202-354-7500.

Authority: 31 U.S.C. 5111, 5112 & 9701.

Dated: March 6, 2012.
Richard A. Peterson,
Deputy Director, United States Mint.

[FR Doc. 2012-5871 Filed 3-9-12; 8:45 am]

BILLING CODE P